DEPARTMENT OF COMMERCE

International Trade Administration

[C-570-009]

Calcium Hypochlorite From China: Final Results of the Expedited Second Sunset Review of the Countervailing Duty Order

AGENCY: Enforcement and Compliance, International Trade Administration, Department of Commerce.

SUMMARY: The U.S. Department of Commerce (Commerce) finds that revocation of the countervailing duty (CVD) order on calcium hypochlorite from the People's Republic of China (China) would be likely to lead to continuation or recurrence of countervailable subsidies at the levels indicated in the “Final Results of Sunset Review” section of this notice.

DATES: Applicable November 18, 2025.

FOR FURTHER INFORMATION CONTACT: Tylar Lewis, Trade Agreements Policy and Negotiations, Enforcement and Compliance, International Trade Administration, U.S. Department of Commerce, 1401 Constitution Avenue NW, Washington, DC 20230; telephone: 202-482-6009.

SUPPLEMENTARY INFORMATION:

Background

On January 30, 2015, the U.S. Department of Commerce (Commerce) published the Order on Calcium Hypochlorite from China.¹ On June 2, 2025, Commerce published the notice of initiation of the second sunset review of the Order, pursuant to section 751(c) of the Act and 19 CFR 351.218(c).²

¹ See Calcium Hypochlorite from the People's Republic of China: Countervailing Duty Order, 80 FR 5082 (January 30, 2015) (Order).

² See Initiation of Five-Year (Sunset) Reviews, 90 FR 23310 (June 2, 2025).

On June 17, 2025, Commerce received a notice of intent to participate in this review from the domestic interested party, Innovative Water Care (IWC), within the deadline specified in 19 CFR 351.218(d)(1)(i).³ IWC claims that it has interested party status within the meaning of section 771(9)(C) of the Act and 19 CFR 351.102(b)(29)(v) as a domestic producer of the subject merchandise.⁴

³ See IWC's Letter, “Calcium Hypochlorite from China: Notice of Intent to Participate,” dated June 17, 2025 (IWC's Notice of Intent).

⁴ Id. at 1.

On July 2, 2025, Commerce received an adequate substantive response from IWC, within the 30-day deadline specified in 19 CFR 351.218(d)(3)(i).⁵ Commerce did not receive a substantive response from either the Government of China or a respondent interested party to this proceeding. On July 21, 2025 Commerce notified the U.S. International Trade Commission (ITC) that it did not receive an adequate substantive response from respondent interested parties.⁶ As a result, Commerce conducted an expedited (120-day) sunset review of the Order, pursuant to section 751(c)(3)(B) of the Act and 19 CFR 351.218(e)(1)(ii)(B)(2) and (C)(2).

⁵ See IWC's Letter, “Antidumping and Countervailing Duty Orders on Calcium Hypochlorite from the People's Republic of China—Substantive Response to the Notice of Initiation,” dated July 2, 2025 (IWC's Substantive Response).

⁶ See Commerce's Letter, “Sunset Review Initiated on June 2, 2025,” dated July 21, 2025.

Scope of the Order

The product covered by this Order is calcium hypochlorite from China. For the full description of the scope of the Order, see the Issues and Decisions Memorandum.⁷

⁷ See Memorandum, “Issues and Decision Memorandum for the Final Results of the Expedited Sunset Review of the Countervailing Duty Order on Calcium Hypochlorite from the People's Republic of China,” dated concurrently with, and hereby adopted by, this notice.

Analysis of Comments Received

A complete discussion of all issues raised in this sunset review, including the likelihood of continuation or recurrence of subsidization and the countervailable subsidy rates likely to prevail if the Order were to be revoked, is contained in the accompanying Issues and Decision Memorandum.⁸ A list of the topics discussed in the Issues and Decision Memorandum is attached as an appendix to this notice. The Issues and Decision Memorandum is a public document and is on file electronically via Enforcement and Compliance's Antidumping and Countervailing Duty Centralized Electronic Service System (ACCESS), which is available to registered users at https://access.trade.gov. In addition, complete versions of the Issues and Decision Memorandum can be accessed directly at https://access.trade.gov/public/FRNoticesListLayout.aspx.

⁸ Id.

Final Results of Sunset Review

Pursuant to sections 751(c) and 752(b) of the Act, Commerce determines that revocation of the Order would be likely to lead to continuation or recurrence of countervailable subsidies at the following net countervailable subsidy rates:

Producers/exporters | Net countervailable subsidy rate (percent ad valorem)
Hubei Dinglong Chemical Co. Ltd | 65.85
W&W Marketing Corporation | 65.85
Tianjin Jinbin International Trade Co., Ltd | 65.85
All Others | 65.85

Notification Regarding Administrative Protective Orders

This notice also serves as the only reminder to parties subject to administrative protective order (APO) of their responsibility concerning the return or destruction of proprietary information disclosed under APO in accordance with 19 CFR 351.305. Timely notification of the return or destruction of APO materials, or conversion to judicial protective, orders is hereby requested. Failure to comply with the regulations and terms of an APO is a violation which is subject to sanction.

Notification to Interested Parties

We are issuing and publishing these final results in accordance with sections 751(c), 752(b), and 777(i)(1) of the Act, and 19 CFR 351.218(e)(1)(ii)(C)(2) and 19 CFR 351.221(c)(5)(ii).

Dated: September 30, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rates Likely to Prevail

3. Nature of the Subsidies

VII. Final Results of Sunset Review

VIII. Recommendation

[FR Doc. 2025-20158 Filed 11-17-25; 8:45 am]

BILLING CODE 3510-DS-P